DEPARTMENT OF TRANSPORTATION

Federal Motor Carrier Safety Administration

[Docket No. FMCSA-2024-0101]

Parts and Accessories Necessary for Safe Operation; Application for an Exemption From K & L Trucking

AGENCY: Federal Motor Carrier Safety Administration (FMCSA), Department of Transportation (DOT).

ACTION: Notice of application for exemption; request for comments.

SUMMARY: The Federal Motor Carrier Safety Administration (FMCSA) requests public comment on an exemption application to allow K & L Trucking (K & L) to transport metal coils using a single two-ply nylon-Kevlar tie down strap to secure its metal coils for transport to a metal coil carrier affixed to the bed of its trucks/trailers as an alternative to the requirements in current regulations. K & L states that its method of securing steel coils is a safe alternative to the method required in the FMCSRs for the short distance that each load is transported. K & L believes the exemption would maintain a level of safety that is equivalent to, or greater than, the level of safety achieved without the exemption.

DATES: Comments must be received on or before May 15, 2024.

ADDRESSES: You may submit comments identified by docket number FMCSA-2024-0101 using any of the following methods:

• Federal eRulemaking Portal: Go to https://www.regulations.gov/docket/FMCSA-2023-0201/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m. ET, Monday through Friday, except Federal holidays.

• Fax: (202) 493-2251.

FOR FURTHER INFORMATION CONTACT: Mr. David Sutula, Vehicle and Roadside Operations Division, Office of Carrier, Driver, and Vehicle Safety, FMCSA, 1200 New Jersey Avenue SE, Washington, DC 20590-0001, (202) 366-5541, MCPSV@dot.gov. If you have questions on viewing or submitting material to the docket, call Dockets Operations at (202) 366-9826.

SUPPLEMENTARY INFORMATION:

I. Public Participation and Request for Comments

A. Submitting Comments

If you submit a comment, please include the docket number for this notice (Docket No. FMCSA-2024-0101), indicate the specific section of this document to which your comment applies, and provide a reason for each suggestion or recommendation. You may submit your comments and material online or by fax, mail, or hand delivery, but please use only one of these means. FMCSA recommends that you include your name and a mailing address, an email address, or a phone number in the body of your document so that FMCSA can contact you if it has questions regarding your submission.

To submit your comment online, go to http://www.regulations.gov/docket/FMCSA-2024-0101/document, click on this notice, click “Comment,” and type your comment into the text box on the following screen.

If you submit your comments by mail or hand delivery, submit them in an unbound format, no larger than 8½ by 11 inches, suitable for copying and electronic filing.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view comments, as well as any documents mentioned in this preamble as being available in the docket, go to https://www.regulations.gov/docket/FMCSA-2024-0101/document and choose the document to review. To view comments, click this notice, then click “Browse Comments.” If you do not have access to the internet, you may view the docket online by visiting Docket Operations on the ground floor of the DOT West Building, 1200 New Jersey Avenue SE, Washington, DC 20590-0001, between 9 a.m. and 5 p.m., ET Monday through Friday, except Federal holidays. To be sure someone is there to help you, please call (202) 366-9317 or (202) 366-9826 before visiting Dockets Operations.

D. Privacy

In accordance with 5 U.S.C. 553(c), DOT solicits comments from the public to better inform its regulatory process. DOT posts these comments, including any personal information the commenter provides, to www.regulations.gov, as described in the system of records notice DOT/ALL 14 (Federal Docket Management System (FDMS)), which can be reviewed under the “Department Wide System of Records Notices” at https://www.transportation.gov/individuals/privacy/privacy-act-system-records-notices. The comments are posted without edit and are searchable by the name of the submitter.

II. Legal Basis

FMCSA has authority under 49 U.S.C. 31136(e) and 31315(b) to grant exemptions from the FMCSRs. FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely maintain a level of safety equivalent to, or greater than, the level that would be achieved by the current regulation (§ 381.305(a)). The Agency must publish its decision in the Federal Register (§ 381.315(b)). If granted, the notice will identify the regulatory provision from which the applicant will be exempt, the effective period, and all terms and conditions of the exemption (§ 381.315(c)(1)). If the exemption is denied, the notice will explain the reason for the denial (§ 381.315(c)(2)). The exemption may be renewed (§ 381.300(b)).

III. K & L Trucking Application for Exemption

On December 4, 2020, FMCSA granted a 5-year exemption from the coil securement rules in section 393.130(c) to allow K & L to use the alternative securement method described below to transport coils from North Star Blue Scope Steel to Fulton County Processing (85 FR 78406). K & L has now applied to expand the exemption to transportation to and from other points within a few miles of each other. The exemption would allow the use of a specialized metal coil carrier permanently attached to the flatbed trailer using sixteen ⅝-inch Grade 8 bolts each rated to hold 27,611 pounds. The coil carrier serves to distribute the coil's weight while securing the coil and preventing rolling during transport. Rather than using the four chains required by section 393.120(c) to prevent the coil from moving forwards or backwards, K & L uses a large single 2 ply synthetic strap with Kevlar protective coating rated with a working load limit of 44,800 pounds routed through the eye of the coil and securing each coil to the coil carrier. A copy of the application is included in the docket referenced at the beginning of this notice.

The exemption would apply to all K & L employees driving commercial motor vehicles utilizing this specialized cargo securement technique transporting metal coils less than 4 miles to and from North Star Blue Scope Steel, LLC, located at 6767 Co. Rd. 9 (and its scales located at Co. Rd. 10), Delta, OH 43515; Fulton County Processing, located at 7800 OH-109, Delta, OH 43515; Worthington Industries, located at 6303 Co. Rd. 10, Delta, OH 43515; Nova Tube and Steel located at 8641 Co. Rd. H, Delta, OH 43515; and BlueScope Recycling and Materials, located at 7300 OH-109, Delta, OH 43515. K & L Trucking believes that its steel coil cargo securement system, as described, would maintain a level of safety that is equivalent to, or greater than, the level of safety achieved without the exemption.

IV. Request for Comments

In accordance with 49 U.S.C. 31315(b)(6), FMCSA requests public comment from all interested persons on K & L's application for an exemption from 49 CFR 393.120(c). All comments received before the close of business on the comment closing date indicated at the beginning of this notice will be considered and will be available for examination in the docket at the location listed under the ADDRESSES section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2024-07892 Filed 4-12-24; 8:45 am]

BILLING CODE 4910-EX-P